NUCLEAR REGULATORY COMMISSION

[Docket No. 30-33887-CivP (EA 01-302), ASLBP No. 03-805-01-CivP]

High Mountain Inspection Service, Inc.; Establishment of Atomic Safety and Licensing Board

Pursuant to delegation by the Commission dated December 29, 1972, published in the Federal Register, 37 FR 28,710 (1972), and sections 2.205, 2.700, 2.702, 2.714, 2.714a, 2.717, 2.721, and 2.772(j) of the Commission's Regulations, all as amended, an Atomic Safety and Licensing Board is being established to preside over the following proceeding: High Mountain Inspection Service, Inc., Mills, Wyoming; Order Imposing Civil Monetary Penalty.

This Board is being established pursuant to the request of High Mountain Inspection Service, Inc., for a hearing regarding an order issued by the NRC staff, dated September 30, 2002, entitled “Order Imposing Civil Monetary Penalty” (67 FR 63,170 (Oct. 10, 2002)).

The Board is comprised of the following administrative judges:

Ivan W. Smith, Chairman, Atomic Safety and Licensing Board Panel, U.S. Nuclear Regulatory Commission, Washington, DC 20555-0001.

Dr. Charles N. Kelber, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents and other materials shall be filed with the Panel Judges in accordance with 10 CFR 2.701.

Issued at Rockville, Maryland, this 12th day of November, 2002.
G. Paul Bollwerk, III,
Chief Administrative Judge, Atomic Safety and Licensing Board Panel.

[FR Doc. 02-29213 Filed 11-15-02; 8:45 am]

BILLING CODE 7590-01-P